DEPARTMENT OF JUSTICE

Notice of Lodging of Consent Decree Pursuant to the Comprehensive Environmental Response, Compensation and Liability Act

In accordance with Departmental policy, 28 U.S.C. § 50.7, and in accordance with section 122(d)(2) of CERCLA, 42 U.S.C. § 9622(d)(2), notice is hereby given that a proposed Consent Decree in United States v. Browning-Ferris Industries Chemical Services, Inc., et al., (“Settling Defendants”), Civil Action No. 1:00 CV-386, was lodged on June 12, 2000, with the United States District Court for the Eastern District of Texas.

In this action the United States and the State of Texas, pursuant to Section 107 of the Comprehensive Environmental Response, Compensation and Liability Act (“CERCLA”), 42 U.S.C. § 9607, sought natural resource damages, including assessment costs, related to releases of hazardous substances from the Bailey Waste Disposal Site (“Bailey Site”), located in Orange County, Bridge City, Texas. The Consent Decree provides that the Settling Defendants will pay the United States and the State of Texas $605,000.00 dollars for natural resource damages, including assessment costs, related to the release of hazardous substances from the Bailey Site.

The Department of Justice will receive, for a period of thirty (30) days from the date of this publication, comments relating to the proposed Consent Decree. Comments should be addressed to the Assistant Attorney General for the Environment and Natural Resources Division, P.O. Box 7611, United States Department of Justice, Washington, D.C. 20044-7611, and should refer to United States v. Browning-Ferris Industries Chemical Services, Inc., et al., DOJ Ref. #90-11-2-390/1.

The proposed Consent Decree May be examined at the office of the United States Attorney, Eastern District of Texas, 350 Magnolia Street, Suite 150, Beaumont, Texas 77701; the Region VI Office of the Environmental Protection Agency, 1445 Ross Avenue, Dallas, Texas. A copy of the Consent Decree may also be obtained by mail from the Consent Decree Library, P.O. Box 7611, United States Department of Justice, Washington, D.C. 20044-7611. In requesting a copy please refer to the referenced case and enclose a check in the amount of $9.75 (25 cents per page reproduction costs), payable to the Consent Decree Library.

Walker Smith,
Deputy Chief, Environmental Enforcement Section, Environment and Natural Resources Division.

[FR Doc. 00-16605 Filed 6-29-00; 8:45 am]

BILLING CODE 4410-15-M